DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Buffalo Southern Railroad, Inc.

Docket Number FRA-1999-6069

The Buffalo Southern Railroad, Inc. (BSOR) seeks a permanent waiver of compliance with the Safety Glazing Standards, 49 CFR 223.11(c), which requires certified glazing in all locomotive windows, except those locomotives used in yard service. BSOR seeks this waiver for five locomotives, numbers 5010, 107, 100, 93 and 105. BSOR states that they operate on 30 miles of track at speeds not to exceed 20 mph between Buffalo and Gowanda, New York. They also state that all locomotives are equipped with shatterproof type safety glazing and have never experienced any problems with window breakage or vandalism.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6069) and must be submitted to the Docket Clerk, DOT Docket Management Facility, Room PL-401 (Plaza Level), 400 7th Street, SW, Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at ­ http://dms.dot.gov.

Issued in Washington, D.C. on April 4, 2000.
Grady C. Cothen, Jr.,
Deputy Associate Administrator for Safety Standards and Program Development.

[FR Doc. 00-8856 Filed 4-10-00; 8:45 am]

BILLING CODE 4910-06-P